DEPARTMENT OF ENERGY

Federal Energy Regulatory Commission

[Docket No. CP03-10-001

Trailblazer Pipeline Company; Notice of Compliance Filing

February 6, 2003.

Take notice that on January 31, 2003., Trailblazer Pipeline Company (Trailblazer) tendered for filing to become part of its FERC Gas Tariff, Third Revised Volume No. 1, the tariff sheets listed on Appendix A to the filing, to be effective January 1, 2003.

Trailblazer states that the purpose of this filing is to cancel Trailblazer's Rate Schedules T and I, which provided for firm and interruptible transportation services for Northern Natural Gas Company (Northern) and Natural Gas Pipeline Company of America (Natural) pursuant to service agreements dated October 8, 1982, as amended.

Trailblazer states that these sheets have been submitted in compliance with Ordering Paragraph (A) of the Commission's order issued January 28, 2003 in Docket No. CP03-10-000 (January 28th Order). Such order authorized Trailblazer to abandon firm and interruptible transportation services performed by Trailblazer for Northern and Natural authorized in Docket No. CP79-80, as amended.

Trailblazer states that copies of the filing are being mailed to all parties set out on the Commission's official service list in Docket No. CP03-10-000.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact

(202) 502-8659. The Commission strongly encourages electronic filings. See 18 CFR 385.2001(a)(1)(iii) and the instructions on the Commission's Web site under the “e-Filing” link.

Protest Date: February 12, 2003.

Magalie R. Salas,
Secretary.

[FR Doc. 03-3524 Filed 2-12-03; 8:45 am]

BILLING CODE 6717-01-P